EQUAL EMPLOYMENT OPPORTUNITY COMMISSION

Agency Information Collection Activities: Proposed Collection; Submission for OMB Review

AGENCY: Equal Employment Opportunity Commission.

ACTION: Final notice of submission for OMB review—no change: Elementary-Secondary Staff Information Report (EEO-5).

SUMMARY: In accordance with the Paperwork Reduction Act of 1995, the Equal Employment Opportunity Commission (EEOC) hereby gives notice that it has submitted to the Office of Management and Budget (OMB) a request for a three year extension of the existing collection as described below.

DATES: Written comments on this final notice must be submitted on or before August 4, 2008.

ADDRESSES: The Request for Clearance (SF 83-I), supporting statement, and other documents submitted to OMB for review may be obtained from: Ronald Edwards, Director, Program Research and Surveys Division, 1801 L Street, NW., Washington, DC 20507. Comments on this final notice must be submitted to Chandana Achanta, Office of Information and Regulatory Affairs, Office of Management and Budget, 725 17th Street, NW., Room 10235, New Executive Office Building, Washington, DC 20503 or electronically mailed to Chandana_L._Achanta@omb.eop.gov. Comments should also be sent to Stephen Llewellyn, Executive Officer, Executive Secretariat, Equal Employment Opportunity Commission, 10th Floor, 1801 L Street, NW., Washington, DC 20507 by the Federal eRulemaking Portal: http://www.regulations.gov. After accessing this Web site, follow its instructions for submitting comments. As a convenience to commentators, the Executive Secretariat will accept comments totaling six or fewer pages by facsimile (“FAX”) machine. This limitation is necessary to assure access to the equipment. The telephone number of the FAX receiver is (202) 663-4114. (This is not a toll-free number). Receipt of FAX transmittals will not be acknowledged, except that the sender may request confirmation of receipt by calling the Executive Secretariat staff at (202) 663-4070 (voice) or (202) 663-4074 (TDD). (These are not toll-free telephone numbers).

FOR FURTHER INFORMATION CONTACT: Ronald Edwards, Director, Program Research and Surveys Division, 1801 L Street, NW., Washington, DC 20507, at (202) 663-4958 or TDD (202) 663-7063. This notice is also available in the following formats: large print, braille, audio tape and electronic file on computer disk. Requests for this notice in an alternative format should be made to the Publications Center at 1-800-669-3362.

SUPPLEMENTARY INFORMATION: A notice that the Equal Employment Opportunity Commission would be submitting this request to the Office of Management and Budget (OMB), pursuant to the Paperwork Reduction Act of 1995 (PRA) was published in the Federal Register on April 18, 2008, allowing for a 60-day public comment period. Only one comment was received and it pointed out the inconsistency between some of the race and ethnic categories that the Department of Education uses in its collection of student enrollment data and the categories EEOC uses in its collection of staffing data. EEOC intends to resolve this inconsistency during this extension period.

Overview of This Information Collection

Type of Review: Three Year Extension—No change.

Collection Title: Elementary-Secondary Staff Information Report (EEO-5).

OMB Number: OMB Number 3046-0003.

Form No.: 168A.

Frequency of Report: Biennially.

Type of Respondent: Public elementary and secondary school districts with 100 or more employees.

Description of Affected Public: Public elementary and secondary school districts and their employees.

Responses: 7,500.

Reporting Hours: 10,000.

Cost to Respondents: $190,000.

Federal Cost: $170,000.

Abstract: Section 709 (c) of Title VII of the Civil Rights Act of 1964, as amended, 42 U.S.C. 2000e-8(c), requires employers to make and keep records relevant to a determination of whether unlawful employment practices have been or are being committed and to make reports therefrom as required by the EEOC. The EEOC has issued regulations, 29 CFR 1602.41-45, which sets forth the reporting requirements for public elementary and secondary schools. Elementary and secondary public school systems and districts have been required to submit EEO-5 reports to EEOC since 1974 (biennially in even numbered years since 1982). Since 1996 each school district or system has submitted all of the district data on a single form, EEOC Form 168A. The individual school form, EEOC Form 168B, was eliminated in 1996, greatly reducing the respondent burden and cost. EEO-5 data are used by EEOC to investigate charges of employment discrimination against elementary and secondary public school districts. The data are used to support EEOC decisions and conciliations, and for research. The data are shared with the Department of Education (Office for Civil Rights and the National Center for Education Statistics) and the Department of Justice. Pursuant to section 709(d) of Title VII of the Civil Rights Act of 1964, as amended, EEO-5 data are also shared with eighty-six State and Local Fair Employment Practices Agencies (FEPAs). The individual reports are confidential.

EEO-5 data are used by the EEOC to investigate charges of discrimination against elementary and secondary public school systems and to provide information on the employment status in this sector of the work place by race, ethnicity and gender.

Burden Statement: The estimated number of respondents included in the biennial EEO-5 survey is 7,500 public elementary and secondary school districts. The estimated number of responses per respondent is one report so the annual number of responses is approximately 7,500 and the total hours per response is approximately 1.3 hours. The estimated total number of burden hours is 10,000 hours each time the survey is conducted (i.e., biennially.) In order to help reduce burden, respondents are encouraged to report data using EEOC's on-line filing system.

Dated: June 27, 2008.
For the Commission.
Naomi C. Earp,
Chair.

[FR Doc. E8-15125 Filed 7-2-08; 8:45 am]

BILLING CODE 6570-01-P